DEPARTMENT OF HOUSING AND URBAN DEVELOPMENT

[Docket No. FR-4579-FA-27]

Announcement of Funding Awards for Fiscal Year 2003 for the Housing Choice Voucher Program

AGENCY: Office of the Assistant Secretary for Public and Indian Housing, HUD.

ACTION: Announcement of Fiscal Year 2003 awards.

SUMMARY: In accordance with section 102(a)(4)(C) of the Department of Housing and Urban Development Reform Act of 1989, this document notifies the public of funding awards for Fiscal Year (FY) 2003 to housing agencies (HAs) under the section 8 housing choice voucher program. The purpose of this notice is to publish the names, addresses, and the amount of the awards to housing agencies for non-competitive funding awards such as, housing conversion actions, special housing conversion fees, public housing relocations and replacements, section 8 counseling, and FY 2003 administrative fees for housing conversion actions.

FOR FURTHER INFORMATION CONTACT: Deborah Hernandez, Director, Office of Housing Voucher Programs, Office of Public and Indian Housing, Room 4232, Department of Housing and Urban Development, 451 Seventh Street, SW., Washington, DC 20410-5000, telephone (202) 708-2934. Hearing- or speech-impaired individuals may call HUD's TTY number at 1(800) 927-7589. (Only the “800” telephone number is toll-free.)

SUPPLEMENTARY INFORMATION: The regulations governing the housing choice voucher program are published at 24 CFR 982. The regulations for allocating housing assistance budget authority under Section 213(d) of the Housing and Community Development Act of 1974 are published at 24 CFR part 791, subpart D.

The purpose of this rental assistance program is to assist eligible families to pay the rent for decent, safe, and sanitary housing. The FY 2003 awardees announced in this notice were provided section 8 funds on an as-needed, non-competitive basis, i.e., not consistent with the provisions of a Notice of Funding Availability (NOFAs). Announcements of awards provided consistent with NOFAs for family unification, mainstream housing, designated housing programs, and family self-sufficiency coordinators will be published in a separate Federal Register notice.

Awards published under this notice were provided (1) to assist families living in HUD-owned properties that are being sold; (2) to assist families affected by the expiration or termination of assistance; (3) to assist families in properties where the owner has prepaid the HUD mortgage; (4) to provide special housing fees to compensate housing agencies for any extraordinary section 8 administrative costs associated with the previous three categories; (5) to provide relocation and replacement housing in connection with the demolition of public housing; (6) to assist families affected by the prepayment of a rent supplement contract; (7) to provide counseling and assistance to families so that they may move to areas that have low racial and ethnic concentrations; and (8) for FY 2003 PHA administrative fees for the administration of housing choice vouchers awarded under this notice.

A total of $183,855,849 in budget authority for rental vouchers (26,787 units) was awarded to recipients under all of the above-mentioned categories.

In accordance with section 102(a)(4)(C) of the Department of Housing and Urban Development Reform Act of 1989 (103 Stat. 1987, 42 U.S.C. 3545), the Department is publishing the names, addresses, and amounts of those awards as shown in appendix A.

Dated: February 6, 2004.
Michael Liu,
Assistant Secretary for Public and Indian Housing.

Appendix A.—Section 8 Rental Assistance Programs Announcement of Awards for Fiscal Year 2003
Housing agency | Address | Units | Award
PROPERTY DISPOSITION FEES
MOBILE HSG BOARD | P.O. BOX 1345, MOBILE, AL 36633 | 0 | $14,750
SOUTHERN IOWA REG HA | 219 N PINE, CRESTON, IA 50801 | 0 | 4,000
CHICAGO HA | 626 WEST JACKSON BLVD, CHICAGO, IL 60661 | 0 | 16,000
INDIANAPOLIS HA | 1919 N. MERIDIAN ST, INDIANAPOLIS, IN 46202 | 0 | 97,500
WICHITA HA | 332 N. RIVERVIEW, WICHITA, KS 67203 | 0 | 7,000
DODGE CITY HA | 407 EAST BEND, DODGE CITY, KS 67801 | 0 | 9,750
PITTSBURG HA | P.O. BOX 688, PITTSBURG, KS 66762 | 0 | 7,750
FORD COUNTY HA | P.O. BOX 1636, DODGE CITY, KS 67801 | 0 | 21,750
OWENSBORO HA | 2161 EAST 19TH ST, OWENSBORO, KY 42303 | 0 | 9,500
ST MARTIN PARISH GOVT HSG DEPT | 1555 GARY DR, BREAUX BRIDGE, LA 70517 | 0 | 10,500
MICHIGAN STATE HSG DEV AUTH | P.O. BOX 30044, LANSING, MI 48909 | 0 | 9,000
H.A.K.C. | 301 EASTARMOUR BLVD, KANSAS CITY, MO 64111 | 0 | 6,750
ST LOUIS COUNTY HA | 8865 NATURAL BRIDGE, ST LOUIS, MO 63121 | 0 | 15,750
HA MISSISSIPPI REG NO 7 | P.O. BOX 886, MC COMB, MS 39648 | 0 | 9,750
ALLIANCE HA | 300 SOUTH POTASH #27, ALLIANCE, NE 69301 | 0 | 7,250
CUYAHOGA MHA | 1441 WEST 25TH ST, CLEVELAND, OH 44113 | 0 | 65,250
CRAWFORD MHA | P.O. BOX 1029, MANSFIELD, OH 44901 | 0 | 7,000
OKLAHOMA HSG FIN AGENCY | P.O. BOX 26720, OKLAHOMA CITY, OK 73126 | 0 | 22,750
HA CITY OF PITTSBURG | 200 ROSS ST, PITTSBURGH, PA 15219 | 0 | 28,500
HARRISBURG HA | 351 CHESTNUT ST, HARRISBURG, PA 17105 | 0 | 37,250
ABERDEEN | 2324 3RD AVE SE, ABERDEEN, SD 57401 | 0 | 3,000
TENNESSEE HSG DEV AGENCY | 404 J ROBERTSON PKWY, STE 1114, NASHVILLE-DAVIDSON, TN 37243 | 0 | 5,750
Total for Property Disposition Fees |  | 0 | $416,500
PRESERVATION/PREPAYMENT FEES
HA OF BIRMINGHAM DISTRICT | 1826 3RD AVE. SOUTH, BIRMINGHAM, AL 35233 | 0 | 23,250
MOBILE HSG BOARD | P.O. BOX 1345, MOBILE, AL 36633 | 0 | 29,750
HA PHENIX CITY | P.O. BOX 338, PHENIX CITY, AL 36867 | 0 | 18,500
H/A CITY OF MONTGOMERY | 1020 BELL ST, MONTGOMERY, AL 36104 | 0 | 37,750
HA DECATUR | P.O. BOX 878, DECATUR, AL 35602 | 0 | 3,250
FLORENCE H/A | 303 NORTH PINE ST, FLORENCE, AL 35630 | 0 | 22,250
CITY OF PHOENIX | 251 W. WASHINGTON ST, PHOENIX, AZ 85003 | 0 | 2,500
MESA HA | 415 N. PASADENA ST, MESA, AZ 85201 | 0 | 1,000
PINAL COUNTY HA | 970 N 11 MILE CORNER RD, CASA GRANDE, AZ 85222 | 0 | 250
TEMPE HA | 132 E. 6TH ST, STE 201, TEMPE, AZ 85280 | 0 | 3,500
SCOTTSDALE HOUSING AGENCY | 7522 E FIRST ST, SCOTTSDALE, AZ 85251 | 0 | 8,500
LOS ANGELES COUNTY HA | 2 CORAL CIRCLE, MONTEREY, CA 91755 | 0 | 20,000
SACRAMENTO HSG & REDEV AUTH | P.O. BOX 1834, SACRAMENTO, CA 95812 | 0 | 28,500
COUNTY OF SAN JOAQUIN HSG | 448 SOUTH CENTER ST, STOCKTON, CA 95203 | 0 | 3,250
RIVERSIDE COUNTY HA | 5555 ARLINGTON AVE, RIVERSIDE, CA 92504 | 0 | 7,000
COUNTY OF SUTTER HA | 448 GARDEN HIGHWAY, YUBA CITY, CA 95992 | 0 | 16,000
COUNTY OF SANTA CLARA HSG | 505 WEST JULIAN ST, SAN JOSE, CA 95110 | 0 | 14,000
SAN DIEGO HSG COMM | 1625 NEWTON AVE, SAN DIEGO, CA 92113 | 0 | 23,750
SANTA CRUZ COUNTY HA | 2160-41ST AVE, CAPITOLA, CA 95010 | 0 | 17,500
DISTRICT OF COLUMBIA HA | 1133 NORTH CAPITOL ST NE, WASHINGTON, DC 20002 | 0 | 22,500
HA OF JACKSONVILLE | 1300 BRD ST, JACKSONVILLE, FL 32202 | 0 | 9,000
GAINESVILLE HA | P.O. BOX 1468, GAINESVILLE, FL 32602 | 0 | 7,750
CITY OF FORT MYERS | 1700 MEDICAL LANE, FORT MYERS, FL 33907 | 0 | 6,500
COLLIER COUNTY HA | 1800 FARM WORKER WAY, IMMOKALEE, FL 34142 | 0 | 500
HA OF ATLANTA GA | 230 JOHN WESLEY DOBBS AVE NE, ATLANTA, GA 30303 | 0 | 22,750
CITY OF CEDAR RAPIDS | 1211 SIXTH ST SW, CEDAR RAPIDS, IA 52401 | 0 | 6,750
CHICAGO HA | 626 WEST JACKSON BLVD, CHICAGO, IL 60661 | 0 | 37,000
DODGE CITY HA | 407 EAST BEND, DODGE CITY, KS 67801 | 0 | 9,750
BOONE COUNTY HA | 2950 WASHINGTON ST, RM 209, BURLINGTON, KY 41005 | 0 | 34,750
RAPIDES PARISH HA | 119 BOYCE GARDENS, BOYCE, LA 71409 | 0 | 38,500
LOWELL HA | 350 MOODY ST, LOWELL, MA 01853 | 0 | 7,500
BOSTON HA | 52 CHAUNCY ST, BOSTON, MA 02111 | 0 | 15,500
SALEM HA | 27 CHARTER ST, SALEM, MA 01970 | 0 | 56,000
COMM DEV PROG COMM OF MA | ONE CONGRESS ST, 10TH FL, BOSTON, MA 02114 | 0 | 6,000
HA OF BALTIMORE CITY | 417 EAST FAYETTE ST, BALTIMORE, MD 21201 | 0 | 1,250
CO COMMISSIONERS CHARLES CO | 8190 PORT TOBACCO RD, PORT TOBACCO, MD 20677 | 0 | 41,000
BALTIMORE CO. HSG OFFICE | 6401 YORK RD, 1ST FL, BALTIMORE, MD 21212 | 0 | 49,750
LEWISTON HA | 1 COLLEGE ST, LEWISTON, ME 04240 | 0 | 54,000
ANN ARBOR HSG COMM | 727 MILLER AVE, ANN ARBOR, MI 48103 | 0 | 46,000
WESTLAND HSG COMM | 32715 DORSEY RD, WESTLAND, MI 48186 | 0 | 49,000
MICHIGAN STATE HSG DEV AUTH | P.O. BOX 30044, LANSING, MI 48909 | 0 | 256,000
MICHIGAN STATE HSG DEV AUTH | P.O. BOX 30044, LANSING, MI 48909 | 0 | 30,000
RICE COUNTY HRA | 208 FIRST AVE NW, FARIBAULT, MN 55021 | 0 | 14,750
SOUTH CENTRAL MULTI COUNTY HRA | 410 JACKSON ST, STE 100, MANKATO, MN 56002 | 0 | 5,250
LACONIA HSG & REDEV | 25 UNION AVE, LACONIA, NH 03246 | 0 | 11,250
NEW BRUNSWICK HA | 65 MORRIS ST, NEW BRUNSWICK, NJ 08901 | 0 | 28,250
EDGEWATER HA | 300 UNDERCLIFF AVE, EDGEWATER, NJ 07002 | 0 | 500
THE MUNIC HA CITY OF YONKERS | 1511 CENTRAL PARK AVE, YONKERS, NY 10710 | 0 | 109,750
ALBANY HA | 4 LINCOLN SQUARE, ALBANY, NY 12202 | 0 | 16,750
TOWN OF AMHERST | 1195 MAIN ST, BUFFALO, NY 14209 | 0 | 26,750
THE CITY OF NEW YORK, DHPD | 100 GOLD ST, RM 5N, NEW YORK, NY 10038 | 0 | 359,250
CUYAHOGA MHA | 1441 WEST 25TH ST, CLEVELAND, OH 44113 | 0 | 5,250
TRUMBULL MHA | 4076 YOUNGSTOWN RD SE, WARREN, OH 44484 | 0 | 3,250
LORAIN MHA | 1600 KANSAS AVE, LORAIN, OH 44052 | 0 | 4,750
ASHTABULA MHA | 3600 LAKE AVENUE, ASHTABULA, OH 44005 | 0 | 1,000
PORTAGE MHA | 2832 STATE ROUTE 59, RAVENNA, OH 44266 | 0 | 41,500
CLERMONT MET.HA. | 65 SOUTH MARKET ST, BATAVIA, OH 45103 | 0 | 1,000
PARMA PHA | 6901 WEST RIDGEWOOD DR, PARMA, OH 44129 | 0 | 50,250
SENECA MHA | 150 PARK AVENUE WEST, MANSFIELD, OH 44901 | 0 | 1,500
HANCOCK MHA | 604 LIMA AVE, FINDLAY, OH 45840 | 0 | 8,000
HA OF WASHINGTON COUNTY | 111 NE LINCOLN ST, STE 200-L, MS63, HILLSBORO, OR 97124 | 0 | 6,750
HA OF CITY OF PITTSBURG | 200 ROSS ST, PITTSBURGH, PA 15219 | 0 | 12,750
ERIE CITY HA | 606 HOLLAND ST, ERIE, PA 16501 | 0 | 1,750
WILKES BARRE HA | 50 LINCOLN PLAZA, WILKES BARRE, PA 18702 | 0 | 41,250
WILLIAMSPORT HA | 605 WEST 4TH ST, WILLIAMSPORT, PA 17701 | 0 | 11,000
WOONSOCKET HA | 679 SOCIAL ST, WOONSOCKET, RI 02895 | 0 | 2,250
NORTH PROVIDENCE HA | 945 CHARLES ST, NORTH PROVIDENCE, RI 02904 | 0 | 1,000
HA OF COLUMBIA | 1917 HARDEN ST, COLUMBIA, SC 29204 | 0 | 5,000
HA OF SUMTER | P. O. BOX 1030, SUMTER, SC 29151 | 0 | 10,750
PENNINGTON COUNTY HA | 1805 WEST FULTON ST, RAPID CITY, SD 57702 | 0 | 3,250
AUSTIN HA | P.O. BOX 6159, AUSTIN, TX 78762 | 0 | 8,250
EL PASO HA | 5300 E PAISONA, EL PASO, TX 79905 | 0 | 37,000
SAN ANTONIO HA | 818 S. FLORES ST, SAN ANTONIO, TX 78295 | 0 | 13,500
TEXARKANA | 1611 N. ROBISON RD, TEXARKANA, TX 75501 | 0 | 1,750
DEL RIO HA | P.O. DRAWER 4080, DEL RIO, TX 78841 | 0 | 14,000
BEEVILLE HA | P.O. BOX 427, BEEVILLE, TX 78104 | 0 | 15,750
TARRANT COUNTY | 1200 CIRCLE DR, STE 200, FORT WORTH, TX 76119 | 0 | 14,500
HARRIS COUNTY HA | 8410 LANTERN POINT, HOUSTON, TX 77054 | 0 | 19,750
ALEXANDRIA REDEV & HA | 600 N FAIRFAX ST, ALEXANDRIA, VA 22314 | 0 | 25,500
CITY OF VIRGINIA BEACH | 2424 COURTHOUSE DR, VIRGINIA BEACH, VA 23456 | 0 | 37,500
VIRGINIA HSG DEV AUTH | 601 SOUTH BELVIDERE ST, RICHMOND, VA 23220 | 0 | 20,250
HA OF CITY OF VANCOUVER | 2500 MAIN ST, #200, VANCOUVER, WA 98660 | 0 | 6,250
MASON COUNTY HA | P.O. BOX 4460, BREMERTON, WA 98312 | 0 | 1,250
Total for Preservation/Prepayment Fees |  | 0 | $2,088,250
PRESERVATION/PREPAYMENT
HA OF BIRMINGHAM DISTRICT | 1826 3RD AVE. SOUTH, BIRMINGHAM, AL 35233 | 99 | 540,540
MOBILE HSG BOARD | P.O. BOX 1345, MOBILE, AL 36633 | 150 | 617,076
H/A CITY OF MONTGOMERY | 1020 BELL ST, MONTGOMERY, AL 36104 | 176 | 811,008
HA DECATUR | P.O. BOX 878, DECATUR, AL 35602 | 14 | 54,600
FLORENCE HA | 303 NORTH PINE ST, FLORENCE, AL 35630 | 96 | 34,464
FAYETTEVILLE HA | # 1 NORTH SCHOOL AVE, FAYETTEVILLE, AR 72701 | 35 | 123,480
CITY OF PHOENIX | 251 W. WASHINGTON ST, PHOENIX, AZ 85003 | 2 | 38,080
MESA HA | 415 N. PASADENA ST, MESA, AZ 85201 | 1 | 12,796
PINAL COUNTY HA | 970 N 11 MILE CORNER RD, CASA GRANDE, AZ 85222 | 1 | 5,712
TEMPE HA | 132 E. 6TH ST, STE 201, TEMPE, AZ 85280 | 14 | 97,512
SCOTTSDALE HOUSING AGENCY | 7522 E FIRST ST, SCOTTSDALE, AZ 85251 | 40 | 274,560
SAN FRANCISCO HA | 440 TURK ST, SAN FRANCISCO, CA 94102 | 150 | 2,503,800
LOS ANGELES COUNTY HA | 2 CORAL CIRCLE, MONTEREY, CA 91755 | 80 | 535,680
SACRAMENTO HSG & REDEV AUTH | P.O. BOX 1834, SACRAMENTO, CA 95812 | 89 | 511,260
RIVERSIDE COUNTY HSNG AUTH | 5555 ARLINGTON AVE, RIVERSIDE, CA 92504 | 28 | 187,488
COUNTY OF SUTTER HA | 448 GARDEN HIGHWAY, YUBA CITY, CA 95992 | 64 | 238,848
COUNTY OF SANTA CLARA HSG | 505 WEST JULIAN ST, SAN JOSE, CA 95110 | 56 | 798,336
SAN DIEGO HSG COMM | 1625 NEWTON AVE, SAN DIEGO, CA 92113 | 144 | 926,208
SANTA CRUZ COUNTY HA | 2160—41ST AVE, CAPITOLA, CA 95010 | 0 | 164,850
DISTRICT OF COLUMBIA HA | 1133 NORTH CAPITOL ST NE, WASHINGTON, DC 20002 | 159 | 1,376,412
HA OF JACKSONVILLE | 1300 BRD ST, JACKSONVILLE, FL 32202 | 43 | 227,556
GAINESVILLE HA | P.O. BOX 1468, GAINESVILLE, FL 32602 | 39 | 189,540
CITY OF FORT MYERS | 1700 MEDICAL LANE, FORT MYERS, FL 33907 | 30 | 156,960
COLLIER COUNTY HA | 1800 FARM WORKER WAY, IMMOKALEE, FL 34142 | 7 | 49,896
HA ATLANTA GA | 230 J WESLEY DOBBS AVE NE, ATLANTA, GA 30303 | 101 | 738,108
CITY OF CEDAR RAPIDS | 1211 SIXTH ST SW, CEDAR RAPIDS, IA 52401 | 30 | 135,720
CHICAGO HA | 626 WEST JACKSON BLVD, CHICAGO, IL 60661 | 265 | 2,156,404
DODGE CITY HA | 407 EAST BEND, DODGE CITY, KS 67801 | 40 | 177,120
BOONE COUNTY HA | 2950 WASHINGTON ST, RM 209, BURLINGTON, KY 41005 | 146 | 702,552
RAPIDES PARISH HA | 119 BOYCE GARDENS, BOYCE, LA 71409 | 160 | 629,760
LOWELL HA | 350 MOODY ST, LOWELL, MA 01853 | 31 | 263,748
CHELSEA HA | 54 LOCKE ST, CHELSEA, MA 02150 | 108 | 1,319,328
SALEM HA | 27 CHARTER ST, SALEM, MA 01970 | 224 | 3,790,080
COMM DEV PROG COMM OF MA | ONE CONGRESS ST, 10TH FL, BOSTON, MA 02114 | 24 | 213,120
HA OF BALTIMORE CITY | 417 EAST FAYETTE ST, BALTIMORE, MD 21201 | 151 | 1,232,868
CO COMMISSIONERS CHARLES CO | 8190 PORT TOBACCO RD, PORT TOBACCO, MD 20677 | 101 | 848,400
LEWISTON HA | 1 COLLEGE ST, LEWISTON, ME 04240 | 251 | 954,804
ANN ARBOR HSG COMM | 727 MILLER AVE, ANN ARBOR, MI 48103 | 191 | 1,320,864
WESTLAND HSG COMM | 32715 DORSEY RD, WESTLAND, MI 48186 | 200 | 1,125,600
MICHIGAN STATE HSG DEV AUTH | P.O. BOX 30044, LANSING, MI 48909 | 1,096 | 5,829,720
MICHIGAN STATE HSG DEV AUTH | P.O. BOX 30044, LANSING, MI 48909 | 120 | 525,600
RICE COUNTY HRA | 208 FIRST AVE NW, FARIBAULT, MN 55021 | 59 | 237,888
SOUTH CENTRAL MULTI CO HRA | 410 JACKSON ST, STE 100, MANKATO, MN 56002 | 95 | 117,734
ISOTHERMAL PLAN & DEV COMM | 111 W COURT ST, RUTHERFORDTON, NC 28139 | 6 | 21,528
LACONIA HSG & REDEV | 25 UNION AVE, LACONIA, NH 03246 | 46 | 228,528
NEW BRUNSWICK HA | 65 MORRIS ST, NEW BRUNSWICK, NJ 08901 | 115 | 1,041,900
VINELAND HA | 191 CHESTNUT AVE, VINELAND, NJ 08360 | 26 | 150,384
THE MUNIC HA CITY OF YONKERS | 1511 CENTRAL PARK AVE, YONKERS, NY 10710 | 439 | 4,185,936
ALBANY HA | 4 LINCOLN SQUARE, ALBANY, NY 12202 | 205 | 1,013,520
TOWN OF AMHERST | 1195 MAIN ST, BUFFALO, NY 14209 | 109 | 455,184
THE CITY OF NEW YORK, DHPD | 100 GOLD ST, RM 5N, NEW YORK, NY 10038 | 1,225 | 8,335,524
NEW YORK STATE HSG FIN AGENCY | 25 BEAVER ST, RM 674, NEW YORK, NY 10007 | 543 | 4,763,196
CUYAHOGA MHA | 1441 WEST 25TH ST, CLEVELAND, OH 44113 | 490 | 3,132,852
AKRON MHA | 100 W. CEDAR ST, AKRON, OH 44307 | 105 | 606,060
TRUMBULL MHA | 4076 YOUNGSTOWN RD SE, WARREN, OH 44484 | 18 | 79,920
LORAIN MHA | 1600 KANSAS AVE, LORAIN, OH 44052 | 20 | 110,280
MANSFIELD MHA | P.O. BOX 1029, MANSFIELD, OH 44901 | 128 | 510,672
ASHTABULA MHA | P.O. BOX 2350, ASHTABULA, OH 44005 | 13 | 67,080
P. O.RTAGE MHA | 2832 STATE ROUTE 59, RAVENNA, OH 44266 | 173 | 857,388
CLERMONT MET.HA. | 65 SOUTH MARKET ST, BATAVIA, OH 45103 | 4 | 17,568
PARMA PHA | 6901 WEST RIDGEWOOD DR, PARMA, OH 44129 | 201 | 882,792
SENECA MHA | P.O. BOX 1029, MANSFIELD, OH 44901 | 6 | 19,152
HANCOCK MHA | 604 LIMA AVE, FINDLAY, OH 45840 | 32 | 116,736
HA OF WASHINGTON COUNTY | 111 NE LINCOLN ST STE 200-L, MS63, HILLSBORO, OR 97124 | 29 | 161,820
HA OF CITY OF PITTSBURG | 200 ROSS ST, PITTSBURGH, PA 15219 | 83 | 420,312
ERIE CITY HA | 606 HOLLAND ST, ERIE, PA 16501 | 7 | 26,040
WILKES BARRE HA | 50 LINCOLN PLAZA, WILKES BARRE, PA 18702 | 200 | 777,600
WILLIAMSPORT HA | 605 WEST 4TH ST, WILLIAMSPORT, PA 17701 | 45 | 182,520
NORTH PROVIDENCE HA | 945 CHARLES ST, NORTH PROVIDENCE, RI 02904 | 3 | 17,676
HA COLUMBIA | 1917 HARDEN ST, COLUMBIA, SC 29204 | 20 | 107,280
HA SUMTER | P.O. BOX 1030, SUMTER, SC 29151 | 50 | 184,200
PENNINGTON COUNTY | 1805 WEST FULTON ST, RAPID CITY, SD 57702 | 14 | 61,488
AUSTIN HA | P.O. BOX 6159, AUSTIN, TX 78762 | 33 | 242,748
EL PASO | 5300 E PAISONA, EL PASO, TX 79905 | 179 | 936,444
SAN ANTONIO HA | 818 S. FLORES ST, SAN ANTONIO, TX 78295 | 16 | 91,776
TEXARKANA | 1611 N. ROBISON RD, TEXARKANA, TX 75501 | 7 | 35,280
DEL RIO HA | P.O. DRAWER 4080, DEL RIO, TX 78841 | 56 | 206,976
BEEVILLE HA | P.O. BOX 427, BEEVILLE, TX 78104 | 64 | 212,736
TARRANT COUNTY HA | 1200 CIRCLE DR, STE 200, FORT WORTH, TX 76119 | 62 | 330,336
HARRIS COUNTY HA | 8410 LANTERN POINT, HOUSTON, TX 77054 | 79 | 519,504
ALEXANDRIA REDEV & HA | 600 N FAIRFAX ST, ALEXANDRIA, VA 22314 | 104 | 802,464
CITY OF VIRGINIA BEACH | 2424 COURTHOUSE DR, VIRGINIA BEACH, VA 23456 | 150 | 711,000
VIRGINIA HSG DEV AUTH | 601 SOUTH BELVIDERE ST, RICHMOND, VA 23220 | 12 | 56,160
HA CITY OF VANCOUVER | 2500 MAIN ST, #200, VANCOUVER, WA 98660 | 26 | 150,384
Total for Preservation/Prepayment |  | 10,053 | $65,627,024
PROPERTY DISPOSITION RELOCATIONS
MOBILE HSG BOARD | P.O. BOX 1345, MOBILE, AL 36633 | 72 | 338,688
CO DIV OF HSG | 1313 SHERMAN ST, ROOM 518, DENVER HA, CO 80203 | 48 | 341,568
SOUTHERN IOWA REG HA | 219 N PINE, CRESTON, IA 50801 | 20 | 68,400
CHICAGO HA | 626 WEST JACKSON BLVD, CHICAGO, IL 60661 | 69 | 485,208
INDIANAPOLIS HA | 1919 N. MERIDIAN ST, INDIANAPOLIS, IN 46202 | 416 | 2,046,528
KANSAS CITY HA | 1124 NORTH NINTH ST, KANSAS CITY, KS 66101 | 100 | 536,400
WICHITA HA | 332 N. RIVERVIEW, WICHITA, KS 67203 | 60 | 307,440
PITTSBURG HA | P.O. BOX 688, PITTSBURG, KS 66762 | 70 | 222,240
ST MARTIN PARISH GOVT HSG DEPT | 1555 GARY DR, BREAUX BRIDGE, LA 70517 | 100 | 322,800
MICHIGAN STATE HSG DEV AUTH | P.O. BOX 30044, LANSING, MI 48909 | 71 | 370,620
H.A.K.C. | 301 EASTARMOUR BLVD, KANSAS CITY, MO 64111 | 78 | 395,928
ST LOUIS COUNTY HA | 8865 NATURAL BRIDGE, ST LOUIS, MO 63121 | 97 | 465,600
HA MISSISSIPPI REG NO 7 | P.O. BOX 886, MC COMB, MS 39648 | 60 | 208,080
ALLIANCE HA | 300 SOUTH POTASH #27, ALLIANCE, NE 69301 | 50 | 147,000
NEW YORK CITY HA | 250 BROADWAY, NEW YORK, NY 10007 | 136 | 1,013,016
CUYAHOGA MHA | 1441 WEST 25TH ST, CLEVELAND, OH 44113 | 351 | 1,952,064
CRAWFORD MHA | P.O. BOX 1029, MANSFIELD, OH 44901 | 50 | 193,200
OKLAHOMA HSG FIN AGENCY | P.O. BOX 26720, OKLAHOMA CITY, OK 73126 | 110 | 495,000
HA OF CITY OF PITTSBURG | 200 ROSS ST, PITTSBURGH, PA 15219 | 312 | 1,579,968
PHILADELPHIA HA | 12 SOUTH 23RD ST, PHILADELPHIA, PA 19103 | 50 | 396,600
HARRISBURG HA | 351 CHESTNUT ST, HARRISBURG, PA 17105 | 301 | 1,531,488
ABERDEEN HA | 2324 3RD AVE SE, ABERDEEN, SD 57401 | 24 | 69,984
KNOXVILLE COMM DEVEL CORP | P.O. BOX 3550, KNOXVILLE, TN 37927 | 264 | 1,181,664
TENNESSEE HSG DEV AGENCY | 404 J. ROBERTSON PKWY, STE 1114, NASHVILLE-DAVIDSON, TN 37243 | 47 | 217,140
Total for Property Disposition Relocations |  | 2,956 | $14,886,624
PUBLIC HOUSING RELOCATIONS AND REPLACEMENTS
HA OF NORTHPORT | P.O. DRAWER 349, NORTHPORT, AL 35476 | 70 | 321,720
CITY OF PHOENIX | 251 W. WASHINGTON ST, PHOENIX, AZ 85003 | 0 | 90,167
LAKEWOOD LA | 445 S. ALLISON PKWY, LAKEWOOD, CO 80226 | 50 | 424,800
HA OF CITY OF NEW HAVEN | 360 ORANGE ST, NEW HAVEN, CT 06511 | 491 | 3,975,568
DISTRICT OF COLUMBIA HA | 1133 NORTH CAPITOL ST NE, WASHINGTON, DC 20002 | 1,194 | 10,215,864
HA OF MARIETTA | P. O. DRAWER K, MARIETTA, GA 30061 | 100 | 744,000
CHICAGO HA | 626 WEST JACKSON BLVD, CHICAGO, IL 60661 | 2,857 | 23,244,552
HA OF CITY OF E. SAINT LOUIS | 700 NORTH 20TH ST, EAST ST LOUIS, IL 62205 | 66 | 354,024
CHAMPAIGN COUNTY HA | 205 WEST PARK AVE, CHAMPAIGN, IL 61820 | 49 | 286,356
CHRISTIAN COUNTY HA | P. O. BOX 86, PANA, IL 62557 | 30 | 105,840
PADUCAH HA | 300 SOUTH FIFTH ST, PADUCAH, KY 42002 | 40 | 151,680
NEW ORLEANS HA | 4100 TOURO ST, NEW ORLEANS, LA 70122 | 542 | 3,356,064
ROCKVILLE HA | 14 MOORE DR, ROCKVILLE, MD 20850 | 65 | 750,360
HA OF BILOXI | P. O. BOX 447, BILOXI, MS 39533 | 111 | 636,696
MISS REG H/A VIII | P. O. BOX 2347, GULFPORT, MS 39505 | 150 | 738,000
HA OF SOUTH DELTA | P. O. BOX 4769, GREENVILLE, MS 38704 | 200 | 926,400
JACKSON HA | 2747 LIVINGSTON RD, JACKSON, MS 39283 | 184 | 949,440
HA OF DURHAM | 330 E MAIN ST, DURHAM, NC 27702 | 158 | 987,816
ALBANY HA | 4 LINCOLN SQUARE, ALBANY, NY 12202 | 44 | 189,552
COLUMBUS MET HA | 880 EAST 11TH AVE, COLUMBUS, OH 43211 | 194 | 1,101,144
CLERMONT MET HA | 65 SOUTH MARKET ST, BATAVIA, OH 45103 | 27 | 127,656
HA OF AIKEN | P. O. BOX 889, AIKEN, SC 29802 | 80 | 450,240
HA OF NORTH CHARLESTON | P. O. BOX 70987, NORTH CHARLESTON, SC 29415 | 405 | 2,046,060
TENNESSEE HSG DEV AGENCY | 404 J. ROBERTSON PKWY STE 1114, NASHVILLE-DAVIDSON, TN 37243 | 62 | 286,440
Total for Public Housing Relocations and Replacements |  | 7,169 | 52,350,439
SECTION 10(c) CONVERSIONS
CAMBRIDGE HA | 675 MASSACHUSETTS AVE, CAMBRIDGE, MA 02139 | 94 | 1,152,816
Total for Section 10(c) Conversions |  | 94 | 1,152,816
TERMINATIONS, OPT-OUTS, AND PD FEES
MOBILE HSG BOARD | P. O. BOX 1345, MOBILE, AL 36633 | 0 | 19,000
DOTHAN HA | P. O. BOX 1727, DOTHAN, AL 36302 | 0 | 5,250
HA OF HUNTSVILLE | P. O. BOX 486, HUNTSVILLE, AL 35804 | 0 | 2,500
HA SCOTTSBORO | 102 WORTHINGTON ST, SCOTTSBORO, AL 35768 | 0 | 25,000
PRATTVILLE HA | 318 WATER ST, PRATTVILLE, AL 36067 | 0 | 9,750
HA OF THE CITY OF HOT SPRINGS | 110 HIGHRISE CIRCLE, HOT SPRINGS, AR 71901 | 0 | 5,750
SACRAMENTO HSG & DEV | P.O. BOX 1834, SACRAMENTO, CA 95812 | 0 | 4,250
CITY OF FRESNO HA | 1331 FULTON MALL, FRESNO, CA 93776 | 0 | 28,250
SAN BERNARDINO CO HA | 715 E. BRIER DR, SAN BERNARDINO, CA 92408 | 0 | 15,000
COUNTY OF FRESNO HA | 1331 FULTON MALL, FRESNO, CA 93776 | 0 | 9,000
CITY OF ALAMEDA HAR | 701 ATLANTIC AVE, ALAMEDA, CA 94501 | 0 | 10,500
SAN LUIS OBISPO HA | P.O. BOX 1289, SAN LUIS OBISPO, CA 93406 | 0 | 5,500
ALAMEDA COUNTY HA | 22941 ATHERTON ST, HAYWARD, CA 94541 | 0 | 6,000
HA CITY OF NAPA | 1115 SEMINARY ST, NAPA, CA 94559 | 0 | 3,500
ORANGE COUNTY HA | 1770 NORTH BROADWAY, SANTA ANA, CA 92706 | 0 | 16,000
ANAHEIM HA | 201 S. ANAHEIM BLVD, STE 203, ANAHEIM, CA 92805 | 0 | 15,000
DENVER HA | 777 GRANT ST, DENVER HA, CO 80203 | 0 | 41,750
CO DIV OF HSG | 1313 SHERMAN ST, R00M 518, DENVER HA, CO 80203 | 0 | 12,500
WATERBURY HA | 2 LAKEWOOD RD, WATERBURY, CT 06704 | 0 | 10,250
BRISTOL HA | 31 QUAKER LANE, BRISTOL, CT 06010 | 0 | 15,000
DISTRICT OF COLUMBIA HA | 1133 NORTH CAPITOL ST NE, WASHINGTON, DC 20002 | 0 | 250
SARASOTA BOCC | P. O. BOX 1058, SARASOTA, FL 34236 | 0 | 9,000
COUNTY OF HAWAII | 50 WAILUKU DR, HILO, HI 96720 | 0 | 20,000
GRINNELL LOW RENT HA | 927 4TH AVE, GRINNELL, IA 50112 | 0 | 7,000
REG HA—VOUCHER XI | 108 WEST 6TH ST, CARROLL, IA 51401 | 0 | 5,250
HA CITY OF POCATELLO | P. O. BOX 4161, POCATELLO, ID 83205 | 0 | 4,500
CHICAGO HA | 626 WEST JACKSON BLVD, CHICAGO, IL 60661 | 0 | 3,000
HA OF COOK COUNTY | 310 SO MICHIGAN AVE, 15TH FL, CHICAGO, IL 60661 | 0 | 20,000
HA OF THE COUNTY OF LAKE | 33928 N ROUTE 45, GRAYSLAKE, IL 60030 | 0 | 1,750
LOUISVILLE HA | 420 SOUTH EIGHTH ST, LOUISVILLE, KY 40203 | 0 | 18,500
PITTSFIELD HA | 65 COLUMBUS AVE, PITTSFIELD, MA 01201 | 0 | 1,500
HA OF BALTIMORE CITY | 417 EAST FAYETTE ST, BALTIMORE, MD 21201 | 0 | 19,000
MONTGOMERY CO HA | 10400 DETRICK AVE, KENSINGTON, MD 20895 | 0 | 6,000
BANGOR HA | 161 DAVIS RD, BANGOR, ME 04401 | 0 | 1,750
JACKSON HSG COMM | 301 STEWARD AVE, JACKSON, MI 49201 | 0 | 4,500
LIVONIA HSG COMM | 19300 PURLINGBROOK RD, LIVONIA, MI 48152 | 0 | 6,500
FERNDALE HSG COMM | 415 WITHINGTON, FERNDALE, MI 48220 | 0 | 14,000
MICHIGAN STATE HSG DEV AUTH | P.O. BOX 30044, LANSING, MI 48909 | 0 | 45,750
ST PAUL PHA | 480 CEDAR ST, ST PAUL, MN 55101 | 0 | 3,750
MOORHEAD PHA | 800 SECOND AVE NORTH, MOORHEAD, MN 56560 | 0 | 5,750
METROPOLITAN COUNCIL HRA | 230 EAST FIFTH ST, ST PAUL, MN 55101 | 0 | 12,000
OWATONNA HRA | 540 WEST HILLS CIRCLE, OWATONNA, MN 55060 | 0 | 1,750
HA OF DURHAM | 330 E MAIN ST, DURHAM, NC 27702 | 0 | 3,000
FOSTER COUNTY HA | 55 16TH AVE SOUTH, CARRINGTON, ND 58421 | 0 | 1,500
ENGLEWOOD HA | 111 WEST ST, ENGLEWOOD, NJ 07631 | 0 | 8,500
NEW YORK CITY HA | 250 BROADWAY, NEW YORK, NY 10007 | 0 | 71,750
COLUMBUS METRO HA | 880 EAST 11TH AVE, COLUMBUS, OH 43211 | 0 | 250
CINCINNATI METRO HA | 16 WEST CENTRAL PKWY, CINCINNATI, OH 45210 | 0 | 15,250
LORAIN MHA | 1600 KANSAS AVE, LORAIN, OH 44052 | 0 | 5,250
MANSFIELD MHA | 150 PARK AVE WEST, MANSFIELD, OH 44901 | 0 | 34,500
ALLEN MHA | 600 SOUTH MAIN ST, LIMA, OH 45804 | 0 | 7,250
HAMILTON COUNTY PHA | 138 EAST COURT ST, ROOM 507, CINCINNATI, OH 45202 | 0 | 14,500
HA OF WASHINGTON COUNTY | 111 NE LINCOLN ST STE 200-L, MS63, HILLSBORO, OR 97124 | 0 | 12,000
JOSEPHINE HSG COMM DEV COUNCIL | P. O.B 1630, GRANTS PASS, OR 97528 | 0 | 2,000
MUNICIPALITY OF CAROLINA | P. O. BOX 8, CAROLINA, PR 00986 | 0 | 29,250
PUERTO RICO HSG FINANCE CO | CALL BOX 71361-GPO, SAN JUAN, PR 00936 | 0 | 112,250
HA OF COLUMBIA | 1917 HARDEN ST, COLUMBIA, SC 29204 | 0 | 7,500
HA OF SUMTER | P. O. BOX 1030, SUMTER, SC 29151 | 0 | 28,000
SIOUX FALLS HA | 630 SOUTH MINNESOTA, SIOUX FALLS, SD 57104 | 0 | 2,750
HA OF MEMPHIS | 700 ADAMS AVE, MEMPHIS, TN 38103 | 0 | 26,250
TENNESSEE HSG DEV AGENCY | 404 J. ROBERTSON PKWY, STE 1114, NASHVILLE-DAVIDSON, TN 37243 | 0 | 12,750
FORT WORTH HA | P.O BOX 430, FORT WORTH, TX 76101 | 0 | 5,750
PORT ARTHUR | P.O BOX 2295, PORT ARTHUR, TX 77643 | 0 | 4,250
CITY OF PASADENA HA | P.O BOX 672, PASADENA, TX 77501 | 0 | 5,250
GREENVILLE HA | 4417 O'NEAL, GREENVILLE, TX 75401 | 0 | 17,750
HA OF COUNTY OF KING | 600 ANDOVER PARK WEST, SEATTLE, WA 98188 | 0 | 11,000
HA CITY OF TACOMA | 902 SOUTH “L” ST, STE 2C, TACOMA, WA 98405 | 0 | 10,000
MADISON CDA | P.O BOX 1785, MADISON, WI 53701 | 0 | 8,750
WAUKESHA HA | 120 CORRINA BLVD, WAUKESHA, WI 53186 | 0 | 18,000
DANE COUNTY HA | 2001 W BROADWAY, STE 1, MONONA, WI 53713 | 0 | 12,250
MORGANTOWN HA | 103 12TH ST P. O. BOX 2738, FAIRMONT, WV 26555 | 0 | 2,000
Total for Terminations, Opt-outs, and PD Fees |  | 0 | 960,750
TERMINATIONS AND OPT-OUTS
MOBILE HSG BOARD | P. O. BOX 1345, MOBILE, AL 36633 | 83 | 402,384
DOTHAN HA | P. O. BOX 1727, DOTHAN, AL 36302 | 21 | 88,956
HA OF HUNTSVILLE | P. O. BOX 486, HUNTSVILLE, AL 35804 | 10 | 44,520
HA OF SCOTTSBORO | 102 WORTHINGTON ST, SCOTTSBORO, AL 35768 | 100 | 339,600
PRATTVILLE HA | 318 WATER ST, PRATTVILLE, AL 36067 | 40 | 184,320
HA OF CITY OF HOT SPRINGS | 110 HIGHRISE CIRCLE, HOT SPRINGS, AR 71901 | 23 | 98,808
POINSETT COUNTY HA | P. O. BOX 433, TRUMANN, AR 72472 | 10 | 32,760
SACRAMENTO HSG & DEV | P.O BOX 1834, SACRAMENTO, CA 95812 | 18 | 87,264
CITY OF FRESNO HA | 1331 FULTON MALL, FRESNO, CA 93776 | 113 | 564,096
SAN BERNARDINO CO HA | 715 E. BRIER DR, SAN BERNARDINO, CA 92408 | 60 | 374,400
COUNTY OF FRESNO HA | 1331 FULTON MALL, FRESNO, CA 93776 | 39 | 176,436
CITY OF ALAMEDA HA | 701 ATLANTIC AVENUE, ALAMEDA, CA 94501 | 42 | 349,272
SAN LUIS OBISPO HA | P.O BOX 1289, SAN LUIS OBISPO, CA 93406 | 22 | 136,752
ALAMEDA COUNTY HA | 22941 ATHERTON ST, HAYWARD, CA 94541 | 24 | 272,628
HA CITY OF NAPA | 1115 SEMINARY ST, NAPA, CA 94559 | 14 | 106,668
ORANGE COUNTY HA | 1770 NORTH BROADWAY, SANTA ANA, CA 92706 | 64 | 562,944
ANAHEIM HA | 201 S. ANAHEIM BLVD, STE 203, ANAHEIM, CA 92805 | 64 | 549,888
IMPERIAL VALLEY HA | 1401 D ST, BRAWLEY, CA 92227 | 15 | 58,320
DENVER HA | 777 GRANT ST, DENVER, CO 80203 | 196 | 1,576,152
LAKEWOOD HA | 445 S. ALLISON PKWY, LAKEWOOD, CO 80226 | 175 | 1,474,200
CO DIV OF HSG | 1313 SHERMAN ST, R00M 518, DENVER, CO 80203 | 70 | 586,320
WATERBURY HA | 2 LAKEWOOD RD, WATERBURY, CT 06704 | 41 | 228,780
BRISTOL HA | 31 QUAKER LANE, BRISTOL, CT 06010 | 78 | 486,720
DISTRICT OF COLUMBIA HA | 1133 NORTH CAPITOL ST NE, WASHINGTON, DC 20002 | 1 | 8,316
SARASOTA BOCC | P. O. BOX 1058, SARASOTA, FL 34236 | 36 | 238,464
HA OF SAVANNAH | P. O. BOX 1179, SAVANNAH, GA 31402 | 4 | 25,104
COUNTY OF HAWAII | 50 WAILUKU DR, HILO, HI 96720 | 100 | 616,800
CITY & COUNTY OF HONOLULU | 715 SOUTH KING ST, STE 311, HONOLULU, HI 96813 | 10 | 68,640
DES MOINES MUNICIPAL HA | 100 EAST EUCLID, STE 101, DES MOINES, IA 50313 | 48 | 227,520
CITY OF IOWA CITY | 410 E. WASHINGTON ST, IOWA CITY, IA 52240 | 64 | 329,472
GRINNELL LOW RENT HA | 927 4TH AVE, GRINNELL, IA 50112 | 32 | 105,600
CITY OF MASON CITY | 10-IST ST NW, MASON CITY, IA 50401 | 48 | 156,672
REG HA—VOUCHER XI | 108 WEST 6TH ST, CARROLL, IA 51401 | 24 | 73,152
SOUTHEAST IOWA REG HA | 214 N. 4TH, BURLINGTON, IA 52601 | 24 | 69,408
HA CITY OF POCATELLO | P. O. BOX 4161, POCATELLO, ID 83205 | 19 | 79,488
CHICAGO HA | 626 WEST JACKSON BLVD, CHICAGO, IL 60661 | 263 | 1,953,096
HA OF COOK COUNTY | 310 SO MICHIGAN AVE, 15TH FL, CHICAGO, IL 60604 | 80 | 616,320
HA OF THE COUNTY OF LAKE | 33928 N ROUTE 45, GRAYSLAKE, IL 60030 | 47 | 393,108
ECKAN | P. O. BOX 100, OTTAWA, KS 66067 | 52 | 206,544
LOUISVILLE HA | 420 SOUTH EIGHTH ST, LOUISVILLE, KY 40203 | 102 | 578,704
CITY OF LOUISVILLE HA | 617 WEST JEFFERSON ST, LOUISVILLE, KY 40202 | 0 | 7,520
HA OF BALTIMORE CITY | 417 EAST FAYETTE ST, BALTIMORE, MD 21201 | 76 | 489,744
MONTGOMERY CO HA | 10400 DETRICK AVE, KENSINGTON, MD 20895 | 24 | 235,872
HARFORD COUNTY HA | 15 SOUTH MAIN ST, STE 106, BEL AIR, MD 21014 | 100 | 478,800
BANGOR HA | 161 DAVIS RD, BANGOR, ME 04401 | 7 | 29,904
MAINE STATE HA | 353 WATER ST, AUGUSTA, ME 04330 | 18 | 88,776
JACKSON HSG COMM | 301 STEWARD AVE, JACKSON, MI 49201 | 19 | 88,008
LIVONIA HSG COMM | 19300 PURLINGBROOK RD, LIVONIA, MI 48152 | 30 | 187,560
FERNDALE HSG COMM | 415 WITHINGTON, FERNDALE, MI 48220 | 56 | 279,552
MICHIGAN STATE HSG DEV AUTH | P.O BOX 30044, LANSING, MI 48909 | 183 | 1,032,120
ST PAUL PHA | 480 CEDAR ST, ST PAUL, MN 55101 | 17 | 106,896
MOORHEAD PHA | 800 SECOND AVE NORTH, MOORHEAD, MN 56560 | 24 | 88,128
METROPOLITAN COUNCIL HRA | 230 EAST FIFTH ST, ST PAUL, MN 55101 | 49 | 314,688
OWATONNA HRA | 540 WEST HILLS CIRCLE, OWATONNA, MN 55060 | 8 | 37,920
ST LOUIS COUNTY HA | 8865 NATURAL BRIDGE, ST LOUIS, MO 63121 | 6 | 32,400
HA OF MISSISSIPPI REG NO 5 | P. O. BOX 419, NEWTON, MS 39345 | 48 | 169,920
HA OF DURHAM | 330 E MAIN ST, DURHAM, NC 27702 | 12 | 75,024
FOSTER COUNTY HA | 55—16TH AVE SOUTH, CARRINGTON, ND 58421 | 12 | 24,768
ENGLEWOOD HA | 111 WEST ST, ENGLEWOOD, NJ 07631 | 34 | 332,112
CITY OF LAS VEGAS HA | 420 N. 10TH ST, LAS VEGAS, NV 89125 | 15 | 122,580
NEW YORK CITY HA | 250 BROADWAY, NEW YORK, NY 10007 | 701 | 5,330,076
HA OF MECHANICVILLE | HARRIS AVE, MECHANICVILLE, NY 12118 | 26 | 98,280
NEW YORK STATE HSG FIN AGENCY | 25 BEAVER ST, RM 674, NEW YORK, NY 10007 | 220 | 1,929,840
COLUMBUS METRO HA | 880 EAST 11TH AVE, COLUMBUS, OH 43211 | 15 | 91,524
CINCINNATI METRO HA | 16 WEST CENTRAL PKWY, CINCINNATI, OH 45210 | 79 | 385,236
LORAIN MHA | 1600 KANSAS AVE, LORAIN, OH 44052 | 67 | 334,464
MANSFIELD MHA | P. O. BOX 1029, MANSFIELD, OH 44901 | 156 | 516,672
ALLEN MHA | 600 SOUTH MAIN ST, LIMA, OH 45804 | 40 | 167,040
HAMILTON COUNTY PHA | 138 EAST COURT ST, ROOM 507, CINCINNATI, OH 45202 | 61 | 358,680
OKLAHOMA HSG FIN AGENCY | P.O. BOX 26720, OKLAHOMA CITY, OK 73126 | 13 | 62,868
HA WASHINGTON COUNTY | 111 NE LINCOLN ST, STE 200-L, MS63, HILLSBORO, OR 97124 | 48 | 295,308
JOSEPHINE HSG COMM DEV COUNCIL | P.O. B 1630, GRANTS PASS, OR 97528 | 9 | 38,556
CHESTER HA | 1010 MADISON ST, CHESTER, PA 19016 | 71 | 585,324
MUNICIPALITY OF CAROLINA | P.O. BOX 8, CAROLINA, PR 00986 | 119 | 598,332
PUERTO RICO HSG FINANCE CO | CALL BOX 71361-GPO, SAN JUAN, PR 00936 | 449 | 2,859,912
HA OF COLUMBIA | 1917 HARDEN ST, COLUMBIA, SC 29204 | 30 | 163,800
CITY OF SPARTANBURG HA | P.O. BOX 2828, SPARTANBURG, SC 29304 | 30 | 151,200
HA OF GREENVILLE | P.O. BOX 10047, GREENVILLE, SC 29603 | 10 | 50,280
HA OF SOUTH CAROLINA REG NO 1 | P.O. BOX 326 404 CHURCH ST, LAURENS, SC 29360 | 5 | 21,900
HA OF SUMTER | P.O. BOX 1030, SUMTER, SC 29151 | 112 | 411,264
SIOUX FALLS HA | 630 SOUTH MINNESOTA, SIOUX FALLS, SD 57104 | 14 | 73,752
HA OF MEMPHIS | 700 ADAMS AVE, MEMPHIS, TN 38103 | 114 | 607,392
TENNESSEE HSG DEV AGENCY | 404 J ROBERTSON PKWY, STE 1114, NASHVILLE-DAVIDSON, TN 37243 | 54 | 252,720
FORT WORTH HA | P.O. BOX 430, FORT WORTH, TX 76101 | 25 | 138,900
PORT ARTHUR HA | P.O. BOX 2295, PORT ARTHUR, TX 77643 | 17 | 68,952
CITY OF PASADENA HA | P.O. BOX 672, PASADENA, TX 77501 | 24 | 125,568
HARRIS COUNTY HA | 8410 LANTERN POINT, HOUSTON, TX 77054 | 92 | 665,712
GREENVILLE HA | 4417 O'NEAL, GREENVILLE, TX 75401 | 72 | 367,200
HA OF CITY OF SEATTLE | 120 SIXTH AVENUE NORTH, SEATTLE, WA 98109 | 27 | 189,864
HA OF COUNTY OF KING | 600 ANDOVER PARK WEST, SEATTLE, WA 98188 | 46 | 341,688
MADISON CDA | P.O. BOX 1785, MADISON, WI 537015 | 42 | 216,216
DOOR COUNTY HA | 57 N 12TH AVE, STURGEON BAY, WI 54235 | 16 | 46,272
EAU CLAIRE HA | 203 S FARWELL ST, EAU CLAIRE, WI 54702 | 21 | 67,032
DANE COUNTY HA | 2001 W BROADWAY, STE 1, MONONA, WI 53713 | 54 | 316,872
MORGANTOWN HA | 103 12TH ST, FAIRMONT, WV 26555 | 8 | 34,848
Total for Terminations and Opt-outs |  | 5,901 | 36,714,432
TENANT PROTECTION ADMINISTRATIVE FEES (SY 2003)
FAYETTEVILLE HA | #1 NORTH SCHOOL AVE, FAYETTEVILLE, AR 72701 | 0 | 25,706
POINSETT COUNTY HA | P.O. BOX 433, TRUMANN, AR 72472 | 0 | 7,300
SAN FRANCISCO HA | 440 TURK ST, SAN FRANCISCO, CA 94102 | 0 | 173,518
IMPERIAL VALLEY HA | 1401 D ST, BRAWLEY, CA 92227 | 0 | 13,614
DENVER HA | 777 GRANT ST, DENVER HA, CO 80203 | 0 | 8,000
LAKEWOOD HA | 445 S. ALLISON PKWY, LAKEWOOD, CO 802265 | 0 | 30,372
CO DIV OF HSG | 1313 SHERMAN ST, R00M 518, DENVER, CO 80203 | 0 | 10,750
BRISTOL HA | 31 QUAKER LANE, BRISTOL, CT 06010 | 0 | 54,846
DISTRICT OF COLUMBIA HA | 1133 NORTH CAPITOL ST NE, WASHINGTON, DC 20002 | 0 | 1,067,124
HA OF SAVANNAH | P.O. BOX 1179, SAVANNAH, GA 31402 | 0 | 750
CITY & COUNTY OF HONOLULU | 715 SOUTH KING ST, STE 311, HONOLULU, HI 96813 | 0 | 11,154
SOUTHEAST IOWA REG HA | 214 N. 4TH, BURLINGTON, IA 52601 | 0 | 17,868
CHICAGO HA | 626 WEST JACKSON BLVD, CHICAGO, IL 60661 | 0 | 118,330
HA OF THE COUNTY OF LAKE | 33928 N ROUTE 45, GRAYSLAKE, IL 60030 | 0 | 9,500
KANSAS CITY HA | 1124 NORTH NINTH ST, KANSAS CITY, KS 66101 | 0 | 15,750
PITTSBURG HA | P.O. BOX 688, PITTSBURG, KS 66762 | 0 | 7,500
ECKAN | P.O. BOX 100, OTTAWA, KS 66067 | 0 | 13,000
LOUISVILLE HA | 420 SOUTH EIGHTH ST, LOUISVILLE, KY 40203 | 0 | 7,000
NEW ORLEANS HA | 4100 TOURO ST, NEW ORLEANS, LA 70122 | 0 | 542,000
CHELSEA HA | 54 LOCKE ST, CHELSEA, MA 02150 | 0 | 124,180
HA OF BALTIMORE CITY | 417 EAST FAYETTE ST, BALTIMORE, MD 21201 | 0 | 130,040
ROCKVILLE HA | 14 MOORE DR, ROCKVILLE, MD 20850 | 0 | 60,084
MAINE STATE HA | 353 WATER ST, AUGUSTA, ME 04330 | 0 | 4,500
SOUTH CENTRAL MULTI COUNTY HRA | 410 JACKSON ST, STE 100, MANKATO, MN 56002 | 0 | 13,500
ST LOUIS COUNTY HA | 8865 NATURAL BRIDGE, ST LOUIS, MO 63121 | 0 | 1,500
HA MISSISSIPPI REG NO 5 | P.O. BOX 419, NEWTON, MS 39345 | 0 | 35,018
JACKSON HOUS AUTH | 2747 LIVINGSTON RD, JACKSON, MS 39283 | 0 | 205,952
VINELAND HA | 191 CHESTNUT AVE, VINELAND, NJ 08360 | 0 | 26,576
CITY OF LAS VEGAS HA | 420 N. 10TH ST, LAS VEGAS, NV 89125 | 0 | 15,774
THE MUNI HA CITY OF YONKERS | 1511 CENTRAL PARK AVE, YONKERS, NY 10710 | 0 | 118,980
NEW YORK CITY HA | 250 BROADWAY, NEW YORK, NY 10007 | 0 | 393,560
ALBANY HA | 4 LINCOLN SQUARE, ALBANY, NY 12202 | 0 | 28,332
HA OF MECHANICVILLE | HARRIS AVE, MECHANICVILLE, NY 12118 | 0 | 21,990
THE CITY OF NEW YORK, DHPD | 100 GOLD ST, RM 5N, NEW YORK, NY 10038 | 0 | 380,720
NEW YORK STATE HSG FIN AGENCY | 25 BEAVER ST, RM 674, NEW YORK, NY 10007 | 0 | 802,462
COLUMBUS METRO HA | 880 EAST 11TH AVE, COLUMBUS, OH 43211 | 0 | 2,500
CUYAHOGA MHA | 1441 WEST 25TH ST, CLEVELAND, OH 44113 | 0 | 391,666
AKRON MHA | 100 W. CEDAR ST, AKRON, OH 44307 | 0 | 89,022
MANSFIELD MHA | P.O. BOX 1029, MANSFIELD, OH 44901 | 0 | 30,750
CLERMONT METRO HA | 65 SOUTH MARKET ST, BATAVIA, OH 45103 | 0 | 2,352
HAMILTON COUNTY PHA | 138 EAST COURT ST ROOM 507, CINCINNATI, OH 45202 | 0 | 750
OKLAHOMA HSG FIN AGENCY | P.O. BOX 26720, OKLAHOMA CITY, OK 73126 | 0 | 6,968
PHILADELPHIA HA | 12 SOUTH 23RD ST, PHILADELPHIA, PA 19103 | 0 | 48,056
CHESTER HA | 1010 MADISON ST, CHESTER, PA 19016 | 0 | 70,382
CITY OF SPARTANBURG HA | P.O. BOX 2828, SPARTANBURG, SC 29304 | 0 | 6,000
HA GREENVILLE | P.O. BOX 10047, GREENVILLE, SC 29603 | 0 | 2,250
HA SOUTH CAROLINA REG NO 1 | P.O. BOX 326, LAURENS, SC 29360 | 0 | 2,544
KNOXVILLE COMM DEV CORP | P.O. BOX 3550, KNOXVILLE, TN 37927 | 0 | 201,876
HARRIS COUNTY HA | 8410 LANTERN POINT, HOUSTON, TX 77054 | 0 | 5,500
CITY OF SEATTLE | 120 SIXTH AVE NORTH, SEATTLE, WA 98109 | 0 | 6,750
EAU CLAIRE HA | 203 S FARWELL ST, EAU CLAIRE, WI 54702 | 0 | 15,654
Total for Tenant Protection Administrative Fees (SY 2003) |  | 0 | 5,380,270
RENT SUPPLEMENTS
THE CITY OF NEW YORK, DHPD | 100 GOLD ST, RM 5N, NEW YORK, NY 10038 | 40 | 253,040
HA CITY OF TACOMA | 902 SOUTH “L” ST, STE 2C, TACOMA, WA 98405 | 574 | 4,025,705
Total for Rent Supplements |  | 614 | 4,278,744
Grand Totals |  | 26,787 | 183,855,849

[FR Doc. 04-3547 Filed 2-18-04; 8:45 am]

BILLING CODE 4210-33-P